DEPARTMENT OF COMMERCE

International Trade Administration

[A-427-816, A-475-826, A-533-817, A-560-805, A-588-847]

Certain Cut-To-Length Carbon-Quality Steel Plate from France, Italy, Indonesia, India, and Japan: Rescission of Antidumping Duty Administrative Review

AGENCY: Import Administration, International Trade Administration, Department of Commerce.

ACTION: Notice of Rescission of Antidumping Duty Administrative Review.

EFFECTIVE DATE: May 28, 2002.

FOR FURTHER INFORMATION CONTACT: Chris Brady, AD/CVD Enforcement, Office 4, Group II, Import Administration, International Trade Administration, U.S. Department of Commerce, 14th Street and Constitution Avenue, NW, Washington, DC 20230; telephone: (202) 482-4406.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to the regulations at 19 CFR Part 351 (2002).

Background

On February 1, 2002, the Department of Commerce (the Department) published a notice of opportunity to request an administrative review of the antidumping duty orders on certain cut-to-length carbon-quality steel plate (CTL plate) from France, Italy, Indonesia, India, Japan, and the Republic of Korea (67 FR 4945, 4946).

On March 27, 2002, the Department initiated administrative reviews of the antidumping duty orders on CTL plate from France, Italy, Indonesia, India, Japan, and the Republic of Korea for the period February 1, 2001, through January 31, 2002, (67 FR 14696, 14697) pursuant to requests made by Bethlehem Steel Corporation and United States Steel Corporation (collectively “the petitioners”) on February 28, 2002. Also on February 28, 2002, Nucor Corp. requested an administrative review for only the Republic of Korea for the period February 1, 2001, through January 31, 2002. On April 26, 2002, the petitioners withdrew their request for the administrative reviews of CTL plate from France, Italy, Indonesia, India, Japan, and the Republic of Korea. In accordance with 19 CFR 351.213(d)(1), the Department is rescinding the administrative reviews covering France, Italy, Indonesia, India, and Japan because the petitioners have withdrawn their requests for an administrative review in a timely manner and they were the only petitioners to request those reviews.

However, as Nucor Corp. has not withdrawn its request that the Department conduct an administrative review of the order on CTL plate from the Republic of Korea, this review will proceed.

Rescission of Review

Section 351.213(d)(1) of the Department's regulations provides that a party that requests an administrative review may withdraw the request within 90 days after the date of publication of the notice of initiation of the requested administrative review. The Department is rescinding the administrative reviews of the order on CTL plate from France, Italy, Indonesia, India, and Japan because the requesting parties have withdrawn their request for these administrative reviews within the 90 day time limit and no other interested parties have requested a review for these countries.

The notice is in accordance with section 777(i)(1) of the Act and 19 CFR 351.213(d)(4).

Dated: May 20, 2002
Bernard T. Carreau,
Deputy Assistant Secretary for Import Administration.

[FR Doc. 02-13270 Filed 5-24-02; 8:45 am]

BILLING CODE 3510-DS-S